DEPARTMENT OF THE INTERIOR

Bureau of Land Management

[MTM 109072; 3411-15]

Public Land Order No. 7875; Emigrant Crevice Mineral Withdrawal; Montana

AGENCY: Bureau of Land Management, Interior.

ACTION: Notice of public land order.

SUMMARY: This Public Land Order (Order) withdraws approximately 30,370 acres of National Forest System lands from location and entry under the United States mining laws for a period of 20 years, subject to valid existing rights. The lands have been and will remain open to leasing under the mineral leasing and geothermal leasing laws.

DATES: This Order takes effect on October 12, 2018.

FOR FURTHER INFORMATION CONTACT: Kim Prill, Chief, Branch of Realty, Lands, and Renewable Energy at: Telephone: 406-896-5039, email: kprill@blm.gov, Bureau of Land Management, Montana/Dakotas State Office, 5001 Southgate Drive, Billings, Montana 59101. Persons who use a telecommunications device for the deaf may call the Federal Relay Service (FRS) at 1-800-877-8339 to leave a message or question for the above individual. The FRS is available 24 hours a day, 7 days a week. You will receive a reply during normal business hours.

SUPPLEMENTARY INFORMATION: The purpose of this Order is to protect and preserve the scenic integrity, important wildlife corridors, and high quality recreation values of the Emigrant and Crevice Areas located in the Custer Gallatin National Forest, Park County, Montana.

Portions of the withdrawn National Forest System lands are unsurveyed and the acres were obtained from protraction diagrams or calculated using the Geographic Information System.

Order

By virtue of the authority vested in the Secretary of the Interior by Section 204 of the Federal Land Policy and Management Act of 1976, 43 U.S.C. 1714, it is ordered as follows:

1. Subject to valid existing rights, the following described National Forest System lands are hereby withdrawn from location and entry under the United States mining laws, but remain open to leasing under the mineral and geothermal leasing laws.

Principal Meridian, Montana

T. 6 S., R. 8 E.,

Secs. 34 and 35;

Sec. 36, lots 1 thru 8, W1/2NE1/4, W1/2, and SE1/4SE1/4.

T. 7 S., R. 8 E.,

Sec. 10, lot 1, N1/2, N1/2SW1/4, SE1/4SW1/4, and SE1/4;

Sec. 11, S1/2;

Sec. 12, S1/2;

Secs. 13, 14, and 15;

Protracted blocks 37 thru 41.

T. 6 S., R. 9 E.,

Sec. 31, lots 1 thru 6, NE1/4, E1/2NW1/4, NE1/4SE1/4, and W1/2SE1/4;

Sec. 32, S1/2;

Sec. 33, S1/2.

T. 7 S., R 9 E.,

Sec. 9, unsurveyed;

Sec. 10, W1/2, unsurveyed;

Secs. 16 and 17, unsurveyed;

protracted blocks 39 thru 45.

T. 8 S., R. 9 E.,

Secs. 22 thru 26, unsurveyed, those portions not within the Absaroka-Beartooth Wilderness;

protracted blocks 41 thru 46, those portions not within the Absaroka-Beartooth Wilderness;

protracted blocks 47 and 48;

protracted block 49, that portion not within the Absaroka-Beartooth Wilderness;

H.E.S. No. 856.

T. 9 S., R. 9 E.,

Secs. 1 and 2, those portions not within the Absaroka-Beartooth Wilderness;

Sec. 3, lots 1, 2, and 3, NE1/4, N1/2NW1/4, SE1/4NW1/4, E1/2SW1/4, and SE1/4;

Sec. 4, lot 2, lots 5 thru 9, lots 12 thru 15, N1/2NE1/4, and NW1/4;

Sec. 5, lots 1 thru 6, N1/2NE1/4, SW1/4NE1/4, NW1/4, and W1/2SE1/4;

Sec. 6, lot 1, lots 5 thru 12, NE1/4, and NE1/4NW1/4;

Sec. 7, lots 5 and 6, S1/2NE1/4, E1/2NW1/4, E1/2SW1/4, and SE1/4;

Sec. 8, lots 1, 4, 5, 6, 9, and 10, SW1/4NW1/4, and SW1/4, excepting Wormsbecker Boundary Adjustment Tract, Certificate of Survey No. 792BA, filed in Park County, Montana, July 22, 1985, Document No. 186782;

Sec. 9, lots 1, 3, and 4, lots 9 thru 15, and S1/2SE1/4;

Sec. 10, lots 1 and 2, N1/2, SW1/4, and N1/2SE1/4;

Sec. 11, lots 1, 2, 3, 5, and 6, N1/2NE1/4, NW1/4, N1/2SW1/4, SE1/4SW1/4, SW1/4SE1/4, those portions not within the Absaroka-Beartooth Wilderness;

Sec. 14, lots 1 thru 8, NW1/4NE1/4, SE1/4SW1/4, and W1/2SE1/4, those portions not within the Absaroka-Beartooth Wilderness;

Sec. 15, lots 1 thru 9, NW1/4, and W1/2SW1/4;

Sec. 16, lots 1 thru 5, E1/2, N1/2NW1/4, and SW1/4NW1/4;

Sec. 17, lots 2 and 3, lots 5 thru 8, SE1/4NE1/4, NW1/4NW1/4, SE1/4SW1/4, and SE1/4;

Sec. 18, lots 1 thru 6, NE1/4, El/2NW1/4, El/2SW1/4, and W1/2SE1/4;

Sec. 19, lots 1 thru 14, NE1/4NW1/4, and NE1/4SE1/4, including the bed of the Yellowstone River;

Sec. 20, lots 2 thru 5, N1/2SW1/4, and N1/2SE1/4;

Sec. 21;

Sec. 22, lots 2 thru 13, W1/2NW1/4, and NW1/4SW1/4;

Sec. 23, lots 1 thru 10, NE1/4, and N1/2SE1/4, those portions not within the Absaroka-Beartooth Wilderness;

Tracts 37, 38, and 39;

H.E.S. No. 253.

The described lands aggregate approximately 30,370 acres in Park County.

2. The following described non-Federal lands and non-Federal mineral rights are within the exterior boundaries of the Emigrant and Crevice Withdrawal. If title to these non-Federal lands or non-Federal mineral rights is subsequently acquired by the United States, the acquired lands and/or mineral rights will become subject to the terms and conditions of this Order.

Principal Meridian, Montana

T. 6 S., R. 8 E.,

M.S. No. 10643, except that portion lying northerly of the line bet. secs. 25 and 36;

M.S. No. 6079.

T. 7 S., R. 8 E.,

M.S. No. 8838, except that portion lying westerly of the line bet. secs. 9 and 10.

Tps. 6 S., Rs. 8 and 9 E.,

M.S. No. 6078.

Tps. 6 and 7 S., Rs. 9 E.,

M.S. No. 4087;

M.S. No. 4724.

T. 7 S., R. 9 E.,

M.S. No. 58;

M.S. No. 6705;

M.S. No. 6706;

M.S. No. 6707;

M.S. No. 6939;

M.S. No. 6940;

M.S. No. 6941;

M.S. No. 9015;

M.S. No. 9858;

M.S. No. 10229.

T. 9 S., R. 9 E.,

Sec. 20, lot 1 and SW1/4NW1/4;

M.S. No. 46;

M.S. No. 47;

M.S. No. 44, that portion lying northerly of the E-W center line of the SE1/4 of sec. 8;

M.S. No. 48;

M.S. No. 61;

M.S. No. 62, that portion lying northerly of the E-W center line of the SE1/4 of sec. 8;

M.S. No. 4535;

M.S. No. 4536;

M.S. No. 4537;

M.S. No. 4538;

M.S. No. 4557;

M.S. No. 4558;

M.S. No. 4559;

M.S. No. 4560;

M.S. No. 4899;

M.S. No. 4900;

M.S. No. 4901;

M.S. No. 4902;

M.S. No. 4903;

M.S. No. 4904;

M.S. No. 4905;

M.S. No. 5527;

M.S. No. 5528;

M.S. No. 5529;

M.S. No. 5531;

M.S. No. 5532;

M.S. No. 5533;

M.S. No. 5542;

M.S. No. 5573A;

M.S. No. 5573B;

M.S. No. 5581;

M.S. No. 5583;

M.S. No. 5613;

M.S. No. 5614;

M.S. No. 5627;

M.S. No. 5628;

M.S. No. 5629;

M.S. No. 5674;

M.S. No. 5675;

M.S. No. 5676;

M.S. No. 5713;

M.S. No. 5786;

M.S. No. 5819;

M.S. No. 5820;

M.S. No. 6117;

M.S. No. 6283;

M.S. No. 6284;

M.S. No. 6341;

M.S. No. 6374;

M.S. No. 6376;

M.S. No. 6377;

M.S. No. 6657;

M.S. No. 6930;

M.S. No. 6931;

M.S. No. 6999;

M.S. No. 7000;

M.S. No. 7001;

M.S. No. 7002;

M.S. No. 7003;

M.S. No. 7004;

M.S. No. 7005;

M.S. No. 7006;

M.S. No. 7007;

M.S. No. 7008;

M.S. No. 7108;

M.S. No. 8869;

M.S. No. 8876;

M.S. No. 9023;

M.S. No. 9024;

M.S. No. 9035, that portion not within the Absaroka-Beartooth Wilderness;

M.S. No. 9681;

M.S. No. 9771;

M.S. No. 9906;

M.S. No. 10774;

Wormsbecker Boundary Adjustment Tract, Certificate of Survey No. 792BA, filed in Park County, Montana, July 22, 1985, Document No. 186782.

The described non-Federal lands and non-Federal mineral rights aggregate approximately 1,668 acres.

3. The withdrawal made by this Order does not alter the applicability of those public land laws governing the use of National Forest System land under lease, license, or permit, or governing the disposal of the mineral or vegetative resources other than under the mining laws.

4. This withdrawal will expire 20 years from the effective date of this Order unless the withdrawal is extended by the Secretary prior to the expiration date as a result of a review conducted pursuant to Section 204(f) of the Federal Land Policy and Management Act of 1976, 43 U.S.C. 1714(f).

Ryan K. Zinke,
Secretary of the Interior.

[FR Doc. 2018-22242 Filed 10-11-18; 8:45 am]

BILLING CODE 3411-15-P